DEPARTMENT OF HEALTH AND HUMAN SERVICES

National Institutes of Health

National Cancer Institute; Amended Notice of Meeting

Notice is hereby given of a change in the meeting of the Board of Scientific Counselors for Clinical Sciences and Epidemiology National Cancer Institute, November 4, 2019, 9:00 a.m. to 3:45 p.m., National Institutes of Health, Building 45, Natcher Building, Conference Room D, 45 Center Drive, Bethesda, MD 20892, which was published in the Federal Register on February 15, 2019, 84 FR 4487.

This meeting notice is amended to add an open session from 9:05 a.m. to 9:35 a.m. to present Remarks from the Acting Director, NCI and to change the meeting end time from 3:45 p.m. to 5:00 p.m. The meeting is partially closed to the public.

Dated: October 21, 2019.
Melanie J. Pantoja,
Program Analyst, Office of Federal Advisory Committee Policy.

[FR Doc. 2019-23282 Filed 10-24-19; 8:45 am]

BILLING CODE 4140-01-P